NUCLEAR REGULATORY COMMISSION

[Docket No. 52-045; NRC-2011-0020]

GE Hitachi Nuclear Energy; Acceptance for Docketing of an Application for Renewal of the U.S. Advanced Boiling Water Reactor Design Certification

On December 7, 2010, GE Hitachi Nuclear Energy (GEH) submitted an application to the U.S. Nuclear Regulatory Commission (NRC) for a design certification (DC) renewal for the U.S. Advanced Boiling Water Reactor (ABWR) in accordance with the requirements contained in 10 CFR part 52, “Licenses, Certifications and Approvals for Nuclear Power Plants.” A notice of receipt and availability of this application was previously published in the Federal Register (76 FR 4948) on January 27, 2011.

The NRC staff has determined that GEH has submitted information in accordance with 10 CFR Part 52 that is acceptable for docketing. The docket number established for the GEH ABWR DC renewal is 52-045.

The NRC staff will perform a detailed technical review of the application. Docketing of the application does not preclude the NRC from requesting additional information from the applicant as the review proceeds, nor does it predict whether the Commission will grant or deny the application. The Commission will receive a report on the DC renewal application from the Advisory Committee on Reactor Safeguards in accordance with 10 CFR 52.57, “Application for Renewal.” The Commission will announce in a future Federal Register notice the opportunity to comment on a proposed rulemaking to issue the renewal. If the Commission finds that the DC renewal application meets the applicable standards of the Atomic Energy Act and the Commission's regulations, and that required notifications to other agencies and bodies have been made, the Commission will issue a DC renewal, in the form and containing conditions and limitations that the Commission finds appropriate and necessary.

Documents may be examined, and/or copied for a fee, at the NRC's Public Document Room (PDR), located at One White Flint North, Public File Area O1 F21, 11555 Rockville Pike (first floor), Rockville, Maryland, and will be accessible electronically through the Agencywide Documents Access and Management System (ADAMS) Public Electronic Reading Room link at the NRC Web site http://www.nrc.gov/reading-rm/adams.html. The application is also available at http://www.nrc.gov/reactors/new-reactors/design-cert.html. Persons who do not have access to ADAMS or who encounter problems in accessing documents located in ADAMS should contact the NRC PDR Reference staff by telephone at 1-800-397-4209, 301-415-4737, or by e-mail to pdr.resource@nrc.gov.

Dated at Rockville, Maryland, this 14th day of February 2011.
For the Nuclear Regulatory Commission.
Adrian Muñiz,
Project Manager, BWR Projects Branch, Division of New Reactor Licensing, Office of New Reactors.

[FR Doc. 2011-3734 Filed 2-17-11; 8:45 am]

BILLING CODE 7590-01-P